DEPARTMENT OF ENERGY

Federal Energy Regulatory Commission

Combined Notice of Filings #1

Take notice that the Commission received the following electric rate filings:

Docket Numbers: ER10-1819-035; ER10-1817-026; ER10-1818-033; ER10-1820-038.

Applicants: Northern States Power Company, a Wisconsin corporation, Public Service Company of Colorado, Southwestern Public Service Company, Northern States Power Company, a Minnesota corporation.

Description: Notice of Change in Status of Northern States Power Company, a Minnesota corporation, et al. under.

Filed Date: 1/27/23.

Accession Number: 20230127-5299.

Comment Date: 5 p.m. ET 2/17/23.

Docket Numbers: ER15-1905-012.

Applicants: AZ721 LLC.

Description: Notice of Change in Status of Amazon Energy LLC.

Filed Date: 1/30/23.

Accession Number: 20230130-5288.

Comment Date: 5 p.m. ET 2/21/23.

Docket Numbers: ER16-323-014.

Applicants: Ohio Valley Electric Corporation.

Description: Notice of Change in Status of Ohio Valley Electric Corporation.

Filed Date: 1/30/23.

Accession Number: 20230130-5289.

Comment Date: 5 p.m. ET 2/21/23.

Docket Numbers: ER17-2509-002; ER19-1992-002.

Applicants: RE Gaskell West 2 LLC, RE Gaskell West 3 LLC.

Description: Notice of Non-Material Change in Status of RE Gaskell West 3 LLC, et al.

Filed Date: 1/30/23.

Accession Number: 20230130-5291.

Comment Date: 5 p.m. ET 2/21/23.

Docket Numbers: ER19-2583-001.

Applicants: Green River Wind Farm Phase 1, LLC.

Description: Compliance filing: Notification of Non-Material CIS and Change in Category Seller Status to be effective 2/1/2023.

Filed Date: 1/31/23.

Accession Number: 20230131-5116.

Comment Date: 5 p.m. ET 2/21/23.

Docket Numbers: ER21-2215-001.

Applicants: Peoples Natural Gas.

Description: Notice of Change in Status of Peoples Natural Gas Company LLC.

Filed Date: 1/30/23.

Accession Number: 20230130-5292.

Comment Date: 5 p.m. ET 2/21/23.

Docket Numbers: ER22-1703-003.

Applicants: Salem Harbor Power Development LP.

Description: Notice of Change in Status of Salem Harbor Power Development LP.

Filed Date: 1/26/23.

Accession Number: 20230126-5191.

Comment Date: 5 p.m. ET 2/16/23.

Docket Numbers: ER22-2190-001; ER22-2191-001; ER22-2192-001; ER14-1594-005; ER14-1596-005; ER14-1934-006; ER14-1935-006; ER15-1020-004; ER20-245-003; ER20-242-003; ER13-1816-017; ER20-246-003.

Applicants: Windhub Solar A, LLC, Sustaining Power Solutions LLC, Sunshine Valley Solar, LLC, Sun Streams, LLC, Rising Tree Wind Farm III LLC, Rising Tree Wind Farm II LLC, Rising Tree Wind Farm LLC, Lone Valley Solar Park II LLC, Lone Valley Solar Park I LLC, EDPR Scarlet I LLC, EDPR CA Solar Park II LLC, EDPR CA Solar Park LLC.

Description: Amendment to June 28, 2022, Triennial Market Power Analysis for Southwest Region and Notice of Non-Material Change in Status of EDPR CA Solar Park LLC, et al.

Filed Date: 1/25/23.

Accession Number: 20230125-5179.

Comment Date: 5 p.m. ET 2/15/23.

Docket Numbers: ER23-52-002.

Applicants: Westlake Chemicals & Vinyls LLC.

Description: Notice of Change in Status of Westlake Chemicals & Vinyls LLC.

Filed Date: 1/30/23.

Accession Number: 20230130-5290.

Comment Date: 5 p.m. ET 2/21/23.

Docket Numbers: ER23-271-001.

Applicants: Arizona Public Service Company.

Description: Compliance filing: Supplement to WECC Soft Price Cap Justification Filing to be effective N/A.

Filed Date: 1/31/23.

Accession Number: 20230131-5169.

Comment Date: 5 p.m. ET 2/21/23.

Docket Numbers: ER23-597-000.

Applicants: Oklahoma Gas and Electric Company.

Description: Report Filing: Supplement to filing 43 to be effective N/A.

Filed Date: 1/23/23.

Accession Number: 20230123-5070.

Comment Date: 5 p.m. ET 2/13/23.

Docket Numbers: ER23-976-000.

Applicants: Pacific Gas and Electric Company.

Description: § 205(d) Rate Filing: Q4 2022 Quarterly Filing of City and County of San Francisco's WDT SA (SA 275) to be effective 12/31/2022.

Filed Date: 1/30/23.

Accession Number: 20230130-5134.

Comment Date: 5 p.m. ET 2/21/23.

Docket Numbers: ER23-977-000.

Applicants: Manitowoc Public Utilities.

Description: Baseline eTariff Filing: Monthly SSR Payment for Lakefront No. 9 with MISO to be effective 2/1/2023.

Filed Date: 1/30/23.

Accession Number: 20230130-5137.

Comment Date: 5 p.m. ET 2/21/23.

Docket Numbers: ER23-978-000.

Applicants: Duke Energy Florida, LLC.

Description: § 205(d) Rate Filing: DEF-TECO RS No. 80 Amendment to be effective 4/1/2023.

Filed Date: 1/30/23.

Accession Number: 20230130-5148.

Comment Date: 5 p.m. ET 2/21/23.

Docket Numbers: ER23-980-000.

Applicants: ISO New England Inc., New England Power Pool Participants Committee.

Description: § 205(d) Rate Filing: ISO New England Inc. submits tariff filing per 35.13(a)(2)(iii: ISO-NE/NEPOOL; ISO Board Candidate Age Limit Increase to be effective 4/1/2023.

Filed Date: 1/30/23.

Accession Number: 20230130-5169.

Comment Date: 5 p.m. ET 2/21/23.

Docket Numbers: ER23-982-000.

Applicants: CPV Three Rivers, LLC.

Description: Initial rate filing: Reactive Rates Filing to be effective 3/1/2023.

Filed Date: 1/30/23.

Accession Number: 20230130-5220.

Comment Date: 5 p.m. ET 2/21/23.

Docket Numbers: ER23-983-000.

Applicants: Midcontinent Independent System Operator, Inc.

Description: § 205(d) Rate Filing: 2023-01-31_SA 3495 ITC-White Tail Solar 1st Rev GIA (J799) to be effective 1/19/2023.

Filed Date: 1/31/23.

Accession Number: 20230131-5018.

Comment Date: 5 p.m. ET 2/21/23.

Docket Numbers: ER23-984-000.

Applicants: Three Corners Solar, LLC.

Description: Compliance filing: Revisions to MBR Tariff to Update Category Seller Status in the Northeast Region to be effective 2/1/2023.

Filed Date: 1/31/23.

Accession Number: 20230131-5022.

Comment Date: 5 p.m. ET 2/21/23.

Docket Numbers: ER23-985-000.

Applicants: Commonwealth Edison Company, PJM Interconnection, L.L.C.

Description: § 205(d) Rate Filing: Commonwealth Edison Company submits tariff filing per 35.13(a)(2)(iii): ComEd submits revisions to OATT, Attachment H-13 to be effective 12/20/2022.

Filed Date: 1/31/23.

Accession Number: 20230131-5023.

Comment Date: 5 p.m. ET 2/21/23.

Docket Numbers: ER23-986-000.

Applicants: Titan Solar 1, LLC.

Description: Compliance filing: Revisions to MBR Tariff to Update Category Seller Status in the Southwest Region to be effective 2/1/2023.

Filed Date: 1/31/23.

Accession Number: 20230131-5034.

Comment Date: 5 p.m. ET 2/21/23.

Docket Numbers: ER23-987-000.

Applicants: Southwest Power Pool, Inc.

Description: § 205(d) Rate Filing: Revisions to Attachment AE to Update Violation Relaxation Limits to be effective 12/31/9998.

Filed Date: 1/31/23.

Accession Number: 20230131-5047.

Comment Date: 5 p.m. ET 2/21/23.

Docket Numbers: ER23-988-000.

Applicants: Southwest Power Pool, Inc.

Description: § 205(d) Rate Filing: 2142R5 Golden Spread Electric Cooperative, Inc. NITSA NOA to be effective 4/1/2023.

Filed Date: 1/31/23.

Accession Number: 20230131-5066.

Comment Date: 5 p.m. ET 2/21/23.

Docket Numbers: ER23-989-000.

Applicants: Southern California Edison Company.

Description: § 205(d) Rate Filing: LGIA, Commerce Energy Storage 2 (TOT996/Q1766_SA No. 293) to be effective 2/1/2023.

Filed Date: 1/31/23.

Accession Number: 20230131-5068.

Comment Date: 5 p.m. ET 2/21/23.

Docket Numbers: ER23-990-000.

Applicants: Alabama Power Company, Georgia Power Company, Mississippi Power Company.

Description: § 205(d) Rate Filing: Alabama Power Company submits tariff filing per 35.13(a)(2)(iii): SWE (Black Warrior) NITSA 2023 Rollover Filing to be effective 1/1/2023.

Filed Date: 1/31/23.

Accession Number: 20230131-5082.

Comment Date: 5 p.m. ET 2/21/23.

Docket Numbers: ER23-991-000.

Applicants: Alabama Power Company, Georgia Power Company, Mississippi Power Company.

Description: § 205(d) Rate Filing: Alabama Power Company submits tariff filing per 35.13(a)(2)(iii): City of Evergreen NITSA Rollover Filing to be effective 1/1/2023.

Filed Date: 1/31/23.

Accession Number: 20230131-5085.

Comment Date: 5 p.m. ET 2/21/23.

Docket Numbers: ER23-992-000.

Applicants: Alabama Power Company, Georgia Power Company, Mississippi Power Company.

Description: § 205(d) Rate Filing: Alabama Power Company submits tariff filing per 35.13(a)(2)(iii): SWE (Tombigbee) NITSA 2023 Rollover Filing to be effective 1/1/2023.

Filed Date: 1/31/23.

Accession Number: 20230131-5095.

Comment Date: 5 p.m. ET 2/21/23.

Docket Numbers: ER23-993-000.

Applicants: Bitter Ridge Wind Farm, LLC.

Description: Compliance filing: Revisions to MBR Tariff to Update Category Seller Status in the Northeast Region to be effective 2/1/2023.

Filed Date: 1/31/23.

Accession Number: 20230131-5124.

Comment Date: 5 p.m. ET 2/21/23.

Docket Numbers: ER23-994-000.

Applicants: Northern States Power Company, a Wisconsin corporation.

Description: § 205(d) Rate Filing: 2023-01-31 GRE SISA—Century 722-NSP to be effective 2/1/2023.

Filed Date: 1/31/23.

Accession Number: 20230131-5131.

Comment Date: 5 p.m. ET 2/21/23.

Docket Numbers: ER23-995-000.

Applicants: Southern California Edison Company.

Description: § 205(d) Rate Filing: GIA, Tule Hydropower WDT1794/SA1212 + Termination of Tule LA, SA1179 to be effective 2/1/2023.

Filed Date: 1/31/23.

Accession Number: 20230131-5136.

Comment Date: 5 p.m. ET 2/21/23.

Docket Numbers: ER23-996-000.

Applicants: LSP-Whitewater Limited Partnership.

Description: Tariff Amendment: MBR Cancellation to be effective 1/31/2023.

Filed Date: 1/31/23.

Accession Number: 20230131-5138.

Comment Date: 5 p.m. ET 2/21/23.

Docket Numbers: ER23-997-000.

Applicants: Midcontinent Independent System Operator, Inc.

Description: § 205(d) Rate Filing: 2023-01-31_SA 3978 OTP-Bagley Junction Capacitor MPFCA to be effective 4/2/2023.

Filed Date: 1/31/23.

Accession Number: 20230131-5168.

Comment Date: 5 p.m. ET 2/21/23.

Docket Numbers: ER23-998-000.

Applicants: Midcontinent Independent System Operator, Inc.

Description: § 205(d) Rate Filing: 2023-01-31_SA 3983 OTP-Oliver Wind IV FSA to be effective 4/2/2023.

Filed Date: 1/31/23.

Accession Number: 20230131-5172.

Comment Date: 5 p.m. ET 2/21/23.

Docket Numbers: ER23-999-000.

Applicants: Midcontinent Independent System Operator, Inc.

Description: § 205(d) Rate Filing: 2023-01-31_SA 3984 OTP-Northern Divide Wind FSA to be effective 4/2/2023.

Filed Date: 1/31/23.

Accession Number: 20230131-5173.

Comment Date: 5 p.m. ET 2/21/23.

Docket Numbers: ER23-1000-000.

Applicants: ISO New England Inc., The Narragansett Electric Company.

Description: § 205(d) Rate Filing: ISO New England Inc. submits tariff filing per 35.13(a)(2)(iii): ISO-NE/The Narragansett Electric Company; Filing of TSA-NECO-83 to be effective 1/1/2023.

Filed Date: 1/31/23.

Accession Number: 20230131-5175.

Comment Date: 5 p.m. ET 2/21/23.

Docket Numbers: ER23-1001-000.

Applicants: Persimmon Creek Wind Farm 1, LLC.

Description: Compliance filing: Notice of Non-Material Change in Status and Revised MBR Tariff to be effective 2/1/2023.

Filed Date: 1/31/23.

Accession Number: 20230131-5183.

Comment Date: 5 p.m. ET 2/21/23.

Docket Numbers: ER23-1002-000.

Applicants: PJM Interconnection, L.L.C.

Description: § 205(d) Rate Filing: Amendment to ISA No. 5068, Queue #AB1-081 (amend) to be effective 4/13/2018.

Filed Date: 1/31/23.

Accession Number: 20230131-5187.

Comment Date: 5 p.m. ET 2/21/23.

Docket Numbers: ER23-1003-000.

Applicants: ISO New England Inc., The Narragansett Electric Company.

Description: § 205(d) Rate Filing: ISO New England Inc. submits tariff filing per 35.13(a)(2)(iii): ISO-NE/The Narragansett Electric Company; Filing of New LSA-TSA-NECO-86 to be effective 1/1/2023.

Filed Date: 1/31/23.

Accession Number: 20230131-5188.

Comment Date: 5 p.m. ET 2/21/23.

Docket Numbers: ER23-1004-000.

Applicants: MD Solar 2, LLC.

Description: § 205(d) Rate Filing: Normal filing 2023 to be effective 2/1/2023.

Filed Date: 1/31/23.

Accession Number: 20230131-5199.

Comment Date: 5 p.m. ET 2/21/23.

Docket Numbers: ER23-1005-000.

Applicants: Vitol PA Wind Marketing LLC.

Description: § 205(d) Rate Filing: Normal filing 2023 to be effective 2/1/2023.

Filed Date: 1/31/23.

Accession Number: 20230131-5204.

Comment Date: 5 p.m. ET 2/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2023.
Debbie-Anne A. Reese,
Deputy Secretary.

[FR Doc. 2023-02435 Filed 2-3-23; 8:45 am]

BILLING CODE 6717-01-P